NATIONAL AERONAUTICS AND SPACE ADMINISTRATION

[Notice 12-049]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council (NAC).

DATES: Tuesday, July 24, 2012, 8:30 a.m.-2:45 p.m., local time.

ADDRESSES: NASA Goddard Space Flight Center (GSFC), Building 34, Room 120A, 8800 Greenbelt Road, Greenbelt, MD 20771.

FOR FURTHER INFORMATION CONTACT: This meeting will also take place telephonically and via WebEx. Any interested person should contact Ms. Erika G. Vick, Executive Secretary for the Education and Public Outreach Committee, National Aeronautics and Space Administration, Washington, DC 20546, at Erika.vick-1@nasa.gov, no later than 4 p.m., local time, July 20, 2012, to get further information about participating via teleconference and/or WebEx.

SUPPLEMENTARY INFORMATION: The agenda for the meeting includes the following topics:

—NASA Goddard Space Flight Center Education/Public Outreach Presentations

—Joint Aeronautics-Education/Public Outreach Committee Meeting

The meeting will be open to the public up to the seating capacity of the room. It is imperative that the meeting be held on this date to accommodate the scheduling priorities of the key participants. All attendees will be requested to sign a register and to comply with NASA security requirements. Visitors must show a valid State or Federal issued picture ID, green card, or passport, before receiving an access badge to enter into GSFC and must state that they are attending the NAC's Education and Public Outreach Committee meeting in Building 34. All U.S. citizens and green card holders desiring to attend must provide their full name, company affiliation (if applicable), and citizenship to Debbie Brasel at (301) 286-6876 or email Deborah.A.Brasel@nasa.gov, no later than the close of business July 16, 2012. Foreign Nationals must provide the following information: full name, gender, date/place of birth, citizenship, home address, visa information (number, type, expiration date), passport information (number, country of issue, expiration date), employer/affiliation information (name of institution, title/position, address, country of employer, telephone, email address), and an electronically scanned or faxed copy of their passport and visa to Debbie Brasel via email at Deborah.A.Brasel@nasa.gov, no later than close of business July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Patricia D. Rausch,
Advisory Committee Management Officer, National Aeronautics and Space Administration.

[FR Doc. 2012-15572 Filed 6-25-12; 8:45 am]

BILLING CODE 7510-13-P